DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Defense Federal Acquisition Supplement (DFARS) 223.570, Drug-Free Work Force, and DFARS Clause 252.223-7004, Drug-Free Work Force; OMB Number 0704-0336.

Type of Request: Extension.

Number of Respondents: 15,152.

Responses Per Respondent: 1.

Annual Responses: 15,152 (Recordkeeping Only).

Average Burden Per Response: 54 Hours (Average Recordkeeping: Established and Start-up).

Annual Burden Hours: 821,052 (Recordkeeping).

Needs and Uses: This information collection requires Department of Defense (DoD) contractors to maintain records regarding drug-free work force programs provided to contractor employees. The information is used to ensure reasonable efforts to eliminate the unlawful use of controlled substances by contractor employees. DFARS Section 223.570, Drug-Free Work Force, and the associated clause at DFARS 252.223-7004, Drug-Free Work Force, require that DoD contractorss institute and maintain programs for achieving the objective of a drug-free work force, but do not require contractors to submit information to the Government. This information collection requirement reflects the public burden of maintaining records related to a drug-free work force program.

Affected Public: Business or Other For-Profit; Not-For-Profit Institutions.

Frequency: This is a requirement for recordkeeping only.

Respondent's Obligation: Required to Obtain or Retain Benefits.

OMB Desk Officer: Mr. Lew Oleinick.

Written comments and recommendations on the proposed information collection should be sent to Mr. Oleinick at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: August 13, 2001.
Patricia L. Toppings,
Alternate OSD Federal Register Liaison Officer, Department of Defense.

[FR Doc. 01-20741 Filed 8-16-01; 8:45 am]

BILLING CODE 5001-08-M